DEPARTMENT OF DEFENSE

Office of the Secretary

Charter Termination of the Judicial Proceedings Since Fiscal Year 2012 Amendments Panel

AGENCY: Department of Defense.

ACTION: Termination of Federal Advisory Committee.

SUMMARY: The Department of Defense is publishing this notice to announce that it is terminating the Judicial Proceedings Since Fiscal Year 2012 Amendments Panel, effective January 26, 2018.

FOR FURTHER INFORMATION CONTACT: Jim Freeman, Advisory Committee Management Officer for the Department of Defense, 703-692-5952.

SUPPLEMENTARY INFORMATION: This committee is being terminated under the provisions of Section 576(c)(2)(C) of the National Defense Authorization Act for Fiscal Year 2013, the Federal Advisory Committee Act of 1972, (5 U.S.C. Appendix), 41 CFR 102-3.55, and the Government in the Sunshine Act of 1976 (5 U.S.C. 552b), effective January 26, 2018.

Dated: February 2, 2018.
Aaron Siegel,
Alternate OSD Federal Register Liaison Officer, Department of Defense.

[FR Doc. 2018-02447 Filed 2-6-18; 8:45 am]

BILLING CODE 5001-06-P